ENVIRONMENTAL PROTECTION AGENCY

[EPA-HQ-OECA-2013-0336; FRL-10000-89-OMS]

Information Collection Request Submitted to OMB for Review and Approval; Comment Request; NESHAP for Off-Site Waste and Recovery Operations (Renewal)

AGENCY: Environmental Protection Agency (EPA).

ACTION: Notice.

SUMMARY: The Environmental Protection Agency (EPA) has submitted an information collection request (ICR), NESHAP for Off-Site Waste and Recovery Operations (EPA ICR Number 1717.12, OMB Control Number 2060-0313), to the Office of Management and Budget (OMB) for review and approval in accordance with the Paperwork Reduction Act. This is a proposed extension of the ICR, which is currently approved through January 31, 2020. Public comments were previously requested, via the Federal Register, on Monday, May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 27, 2019.

ADDRESSES: Submit your comments, referencing Docket ID Number EPA-HQ-OECA-2013-0336, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Off-Site Waste and Recovery Operations (OSWRO apply to existing facilities and new facilities with organic hazardous air pollutant (HAP) emissions that are involved in waste management and recovery operations, and that are not subject to Federal air standards under other subparts in Part 63. In addition, Subpart DD cross-references control requirements to be applied to specific types of affected sources: Tanks level-1; containers; surface impoundments; individual drain systems; oil-water separators; organic water separators; and loading, transfer, and storage systems. New facilities include those that commenced either construction or reconstruction after the date of proposal.

This information is being collected to assure compliance with 40 CFR part 63, subpart DD. In general, all NESHAP standards require initial notification reports, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Facilities that are involved in waste management and recovery operations.

Respondent's obligation to respond: Mandatory (40 CFR part 63).

Estimated number of respondents: 50 (total).

Frequency of response: Semiannually.

Total estimated burden: 47,800 hours (per year). Burden is defined at 5 CFR 1320.3(b).

Total estimated cost: $6,420,000 (per year), which includes $892,000 in annualized capital/startup and/or operation & maintenance costs.

Changes in the Estimates: There is an adjustment increase in the burden in this ICR compared to the previous ICR. The increase is based on an increase in the number of sources subject to the NESHAP. This also results in an increase in the operation and maintenance costs. This ICR also adjusts the capital and operation and maintenance costs for installing electronic indicators on PRDs on stationary sources per the rule amendments and final action on reconsideration (83 FR 3986, January 29, 2019).

Courtney Kerwin,
Director, Regulatory Support Division.

[FR Doc. 2019-25762 Filed 11-26-19; 8:45 am]

BILLING CODE 6560-50-P